DEPARTMENT OF COMMERCE

Foreign-Trade Zones Board

[Docket 22-2006]

Foreign-Trade Zone 84 - Houston, TX, Application for Subzone Status, Academy Sports and Outdoors, (Apparel, Footwear, and Sporting Goods)

An application has been submitted to the Foreign-Trade Zones Board (the Board) by the Port of Houston Authority, grantee of FTZ 84, requesting special-purpose subzone status for the warehousing and distribution facilities (apparel, footwear, and sporting goods) of Academy Sports and Outdoors (Academy), located in Katy and Brookshire, Texas. The application was submitted pursuant to the provisions of the Foreign-Trade Zones Act, as amended (19 U.S.C. 81a-81u), and the regulations of the Board (15 CFR part 400). It was formally filed on June 13, 2006.

The proposed subzone would include Academy's warehousing facilities at two sites near Houston, Texas: Site 1 - (5 parcels) Mason Road Distribution Center (warehouse/94 acres/1,471,000 sq.ft. under roof/300 employees) - 1800 N. Mason Road, Katy (Harris County), Texas, about 15 miles west of Houston; and Site 2 - (2 parcels) West Distribution Center (future warehouse/165 acres) situated on FM 362 North near FM 359, Brookshire (Waller County), Texas, about eight miles west of Site 1. The facilities are used for warehousing and distribution of foreign-origin and domestic sporting goods, outdoor recreational equipment, apparel, and footwear for the U.S. market. FTZ procedures would be utilized to support Academy's distribution activity. Finished products to be admitted to the proposed subzone for distribution would include: camping gear, fishing gear, bicycles, games machines, sleds, travel/sports bags (not of cotton; Other - Textile Quota Category 870, will be admitted under privileged foreign (PF) status), men's/boys' and women's/girls' apparel, furniture, appliances, footwear, knives, pumps, hunting rifles, tools, sporting goods, and garden equipment. All quota-class textile and apparel products classified under Textile Import Quota categories shall be admitted to the proposed subzone under privileged foreign status (19 CFR 146.41).

FTZ procedures would exempt Academy from Customs duty payments on foreign products that are re-exported. On domestic sales, the company would be able to defer payments until merchandise is shipped from the facility and entered for U.S. consumption. Academy also plans to realize logistical benefits through the use of weekly entry procedures. The application indicates that all of the above-cited savings from FTZ procedures would help improve the facility's international competitiveness.

In accordance with the Board's regulations, a member of the FTZ Staff has been designated examiner to investigate the application and report to the Board.

Public comment is invited from interested parties. Submissions (original and 3 copies) shall be addressed to the Board's Executive Secretary at the address below. The closing period for their receipt is August 21, 2006. Rebuttal comments in response to material submitted during the foregoing period may be submitted during the subsequent 15-day period to September 5, 2006.

A copy of the application and accompanying exhibits will be available for public inspection at each of the following locations: U.S. Department of Commerce Export Assistance Center, 15600 John F. Kennedy Blvd., Suite 530, Houston, TX 77032; and, Office of the Executive Secretary, Foreign-Trade Zones Board, Room 1115, U.S. Department of Commerce, 1401 Constitution Avenue, NW., Washington, District of Columbia 20230-0002; Tel: (202) 482-2862.

Dated: June 13, 2006.
Pierre V. Duy,
Acting Executive Secretary.

[FR Doc. E6-9823 Filed 6-20-06; 8:45 am]

BILLING CODE 3510-DS-S